NATIONAL SCIENCE FOUNDATION

Agency Information Collection Activities: Comment Request; 2023 Survey of Doctorate Recipients

AGENCY: National Science Foundation.

ACTION: Submission for OMB review; comment request.

SUMMARY: The National Science Foundation (NSF) has submitted the following request for revision of the approved collection of research and development data in accordance with the Paperwork Reduction Act of 1995. This is the second notice for public comment; the first was published in the Federal Register and one comment was received. NSF is forwarding the proposed renewal submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314; 703-292-7556, or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION: NSF may not conduct or sponsor a collection of information unless the collection of information displays a currently valid OMB control number and the agency informs potential persons who are to respond to the collection of information that such persons are not required to respond to the collection of information unless it displays a currently valid OMB control number.

Title of Collection: 2023 Survey of Doctorate Recipients.

OMB Number: 3145-0020.

Type of Request: Revision to and extension of approval of an information collection.

Proposed Project

Abstract: Established within the NSF by the America COMPETES Reauthorization Act of 2010 section 505, codified in the National Science Foundation Act of 1950, as amended, the National Center for Science and Engineering Statistics (NCSES) serves as a central Federal clearinghouse for the collection, interpretation, analysis, and dissemination of objective data on science, engineering, technology, and research and development for use by practitioners, researchers, policymakers, and the public.

NCSES is the primary sponsor of the Survey of Doctorate Recipients (SDR); the National Institutes of Health (NIH) serves as a co-sponsor. The SDR has been conducted biennially since 1973 and is a longitudinal survey. The 2023 SDR will consist of a sample of individuals under 76 years of age who have earned a research doctoral degree in a science, engineering, or health (SEH) field from a U.S. academic institution. The purpose of this panel survey is to collect data to provide national estimates on the doctoral science and engineering workforce and changes in their employment, education, and demographic characteristics. NCSES uses these data to prepare essential congressionally mandated reports (explained below). Government agencies and academic researchers use SDR data and publications to make planning decisions regarding science and engineering research, training, and employment opportunities. Employers also use the SDR to understand trends in employment sectors, industry types, and salary. Students who want to learn about the relationship between graduate education and careers often obtain valuable information from the SDR. Data and publications from the SDR are available to the public on the NCSES website: https://www.nsf.gov/statistics/srvydoctoratework/.

The SDR will collect data by web survey, mail questionnaire, and computer-assisted telephone interviews beginning in July 2023. The survey will be collected in conformance with the Confidential Information Protection and Statistical Efficiency Act (CIPSEA) of 2018 and the individual's response to the survey is voluntary. NCSES will ensure that all information collected will be kept strictly confidential and will be used only for statistical purposes.

Use of the Information: NCSES uses the information from the SDR to prepare two congressionally mandated reports: Diversity and STEM: Women, Minorities and Persons with Disabilities and Science and Engineering Indicators. NCSES publishes statistics from the SDR in many reports, primarily in the biennial series, Characteristics of Scientists and Engineers with U.S. Doctorates. As with prior SDR data collections, a cross-sectional public release file of collected data designed to protect respondent confidentiality will be made available to researchers on the NCSES website: https://ncsesdata.nsf.gov/datadownload/. In addition, the first SDR longitudinal data products were released in 2022.

Expected Respondents: The U.S. Office of Management and Budget (OMB) previously directed that NCSES enhance and expand the sample to measure employment outcomes by the fine field of degree taxonomy used in the Survey of Earned Doctorates (SED). NCSES initiated this change in the 2015 cycle and has since maintained it by developing a detailed field of degree taxonomy based on the SED fine fields that is aggregated to a level that is reportable and sustainable. (For information defining these fields, see the survey technical notes.) The SDR sample is drawn using the SED as a frame. The SDR uses a fixed panel design with a sample of new doctoral graduates added to the panel in each biennial survey cycle. The sample stratification, allocation, and estimation precision targets are described in the survey description.

For the 2023 SDR, a statistical sample of 125,426 individuals with U.S. earned doctorates in science, engineering, or health will be contacted. The sample consists of all eligible cases from the previous cycle (115,246) after removing cases that have never responded (6,684), including those from the 2017 SDR new sample and the 2019 SDR supplemental sample, as well as a sample of 10,000 new doctoral graduates. For 2023, the new graduate sample received their U.S. doctorate between July 2019 and June 2021. Across the full sample, NCSES estimates approximately 89% of individuals will reside in the U.S. and the remaining 11% will reside abroad.

Estimate of Burden: NCSES expects the overall 2023 SDR response rate to be approximately 70 percent. The amount of time to complete the questionnaire may vary depending on an individual's circumstances; however, based on 2021 SDR completion times and the addition of new retirement-related items for a subsample of respondents, NCSES estimates an average completion time of approximately 22 minutes. Additionally, a pre-field survey will be sent to approximately 30% of sample members (37,574) before the 2025 cycle to ask for updated contact information, which is estimated to take 3 minutes to complete and will have a 30% response rate. NCSES estimates that the average annual burden for the 2023 survey cycle over the course of the three-year OMB clearance period will be no more than 10,903 hours [(125,246 individuals × 70% response × 22 minutes) + (37,574 individuals × 30% response × 3 minutes)/60 minutes/3 years].

Comment: On 6 December 2022, NCSES published in the Federal Register (87 FR 2022-74664) a 60-day notice of its intent to request reinstatement of this information collection authority from OMB. In that notice, NCSES solicited public comments for 60 days ending 6 February 2023. One public comment was received. On 6 December 2022, Dr. Andrew Reamer of George Washington University sent an email to NSF on behalf of the American Economic Association and the Industry Studies Association. He requested the draft information collection request (ICR) materials for the 2023 SDR. NSF responded to Dr. Reamer on 22 December 2022, explaining that the 2023 SDR ICR materials were in the process of being prepared and that there were no substantive changes planned, except that all the COVID-related items will be removed from the questionnaire and items pertaining to retirement will be added. He was directed to past cycle SDR questionnaires on the NSF website, which would be updated to reflect the survey year. Relative to the first notice, there are two substantive changes: (1) The first notice estimated the respondent burden to be no more than 12,639 hours based on an average completion time of 25 minutes. The average time to complete has been revised to 22 minutes based on the finalized 2023 SDR survey content and actual survey administration times from the 2021 SDR which was 19.2 minutes on average in online modes, decreasing the estimated respondent burden by 1,736 hours. (2) The survey launch date is now planned for August 2023 rather than June 2023 to allow for additional survey design planning, including inclusion of a new survey item module about retirement.

Comments are invited on (a) whether the proposed collection of information is necessary for the proper performance of the functions of NCSES, including whether the information shall have practical utility; (b) the accuracy of NCSES's estimate of the burden of the proposed collection of information; (c) ways to enhance the quality, use, and clarity of the information on respondents, including through the use of automated collection techniques or other forms of information technology; and (d) ways to minimize the burden of the collection of information on those who are to respond, including through the use of appropriate automated, electronic, mechanical, or other technological collection techniques or other forms of information technology.

Dated: June 16, 2023.
Suzanne H. Plimpton,
Reports Clearance Officer, National Science Foundation.

[FR Doc. 2023-13279 Filed 6-21-23; 8:45 am]

BILLING CODE 7555-01-P